DEPARTMENT OF COMMERCE

National Oceanic and Atmospheric Administration

[030102001-3001-01]

United States Climate Change Science Program

AGENCY: National Oceanic and Atmospheric Administration (NOAA).

ACTION: Notice of availability and request for public comment.

SUMMARY: The United States Climate Change Science Program (CCSP) is announcing the availability of a draft document “Strategic Plan for the Climate Change Science Program.” The complete draft strategic plan was posted on the CCSP web site at http://www.climatescience.gov for public comment on November 11, 2002. The CCSP is seeking public comment in order to receive feedback from the widest range of interested parties. This draft document is being issued for comment only and is not intended for interim use. The CCSP will review public comments received on the draft document. In response to those comments, suggested changes will be incorporated, where appropriate, and a final document will be issued for use.

In your review, we ask you to provide a perspective on the content, implications, and challenges outlined in the plan as well as suggestions for any alternate approach you wish to have considered, and the types of climate and global change information required by policy makers and resource managers. We also ask that you comment on any inconsistencies within or across chapters, and omissions of important topics. For any shortcomings that you note in the draft, please propose specific remedies.

In your comments, please consider the following issues: (1) Overview on the content, implications, and challenges outlined in the plan; (2) areas of agreement and disagreement, as appropriate; (3) suggestions for alternative approaches, if appropriate; (4) inconsistencies within or across chapters; (5) omissions of important topics; (6) specific remedies for identified shortcomings of the draft plan; (7) type of climate and global change information required by representative groups; (8) other comments not covered above. Please do not comment on grammar, spelling, or punctuation. Professional copy editing will correct deficiencies in these areas for the final draft.

Please follow these instructions for preparing and submitting your review. Using the format guidance described below will facilitate our processing of reviewer comments and assure that your comments are appropriately considered. Please provide background information about yourself on the first page of your comments: your name(s), organization(s), area(s) of expertise, mailing address(es), telephone and fax numbers, and email address(es). Overview comments on the chapter should follow your background information and should be numbered. Comments that are specific to particular pages, paragraphs or lines of the chapter should follow your overview comments and should identify the page and line numbers to which they apply. Comments that refer to a table or figure should identify the table or figure number. In the case of tables, please also identify the row and column to which the comment refers. Order your comments sequentially by page and line number. At the end of each comment, please insert your name and affiliation. An example of the format is provided on the CCSP web site at: http://www.climatescience.gov/Library/stratplan2003/comments.htm.

DATES: Comments on this draft document should be submitted by January 18, 2003. Comments received after that date will be considered to the extent practicable. All comments submitted will be posted on the CCSP web site for public review.

ADDRESSES: The Strategic Plan for the Climate Change Science Program is available on the CCSP web site at: http://www.climatescience.gov/Library/stratplan2003/. A free single copy of the Plan will be available to interested parties until the supply is exhausted. Such copies may be requested by writing to the U.S. Climate Change Science Program, Suite 250, 1717 Pennsylvania Ave., NW., Washington, DC 20006 or submitting e-mail to information@climatescience.gov.

All comments should be sent electronically to comments@climatescience.gov or to Ms. Sandy MacCracken, U.S. Climate Change Science Program, Suite 250, 1717 Pennsylvania Ave., NW., Washington, DC 20006.

FOR FURTHER INFORMATION CONTACT: Ms. Sandy MacCracken, U.S. Climate Change Science Program, Suite 250, 1717 Pennsylvania Ave., NW., Washington, DC 20006. (Phone: 202-223-6262, Fax: 202-223-3065, e-mail: smaccrac@usgcrp.gov); or visit the CCSP Web site at http://www.climatescience.gov.

SUPPLEMENTARY INFORMATION: Scientists recognized the existence of a natural “greenhouse effect” and the possibility of human-induced changes in the Earth's climate and environment as early as the 19th century and, over time, this possibility has become widely accepted. In the last decades of the 20th century, public debate about the contribution of human activities to observed climate change and potential future changes in climate, and about courses of action to manage risks to humans and the environment, has been active and frequently contentious. These debates cover a range of both science and policy issues, including the extent to which global temperatures have in fact changes; whether most of the observed overall change in temperature of the last 50 years is attributable to human activities (principally the burning of biomass and fossil fuels and changes in land cover); how much climate might change in the future; and whether proposed response strategies, such as reductions in emissions or efforts to enhance natural carbon sequestration processes, would produce economic or other effects more detrimental than the effects of climate change itself.

Science-based information is required to inform public debate on the wide range of climate and global change issues necessary for effective public policy and stewardship of natural resources. Developing the needed information will require addressing a wide-ranging set of fundamental science questions, significantly improving observations and data management, and implementing highly credible and transparent mechanism for conveying research results in ways that are useful for decisionmakers and the public.

1. The Issues for Science and Society

Environmental systems on Earth are changing constantly. The climate system is highly variable, with conditions varying significantly over the span of seasons, years, decades, and longer timescales. Fluctuations in the amount of energy emitted by the Sun, slight deviations in the Earth's orbit, volcanic injections of gases and particles into the atmosphere, and natural variations in ocean temperatures and currents, all cause variability and changes in climate conditions.

Against the backdrop of these natural forces, humans have become agents of environmental change, at least on timescales of decades to centuries, even as living standards for billions of people have improved tremendously. Emission of greenhouse gases and pollutants and extensive changes in the land surface (both tied to widespread development of modern living standards) have potential consequences for global and regional climate. They also influence air quality, the Earth's protective shield of stratospheric ozone, the distribution and abundance of water resources and many plant and animal species, and the ability of ecosystems to provide life-supporting goods and services.

The challenge is that discerning whether human activities are causing observed climatic changes and impacts requires detecting a small, decade-by-decade trend against the backdrop of wide temperature changes that occur on shorter timescales (seasons to years). A sound base of observations, as well as a solid understanding of how the Earth's environmental systems respond to different natural and human forces, is essential to detecting and attributing climate change to any specific cause. Currently, measurements taken at the Earth's surface, in various layers of the atmosphere, in boreholes, in the oceans, and in other environmental systems such as the cryosphere (frozen regions) indicate that the climate is warming. Further, in Climate Change Science: An Analysis of Some Key Questions (NRC, 2001a), the National Research Council (NRC), the operational arm of the National Academy of Sciences (NAS), concluded that “the changes observed over the last several decades are likely mostly due to human activities, but we cannot rule out that some significant part of these changes is also a reflection of natural variability.” The NRC report elaborates on this point:

Because of the large and still uncertain level of natural variability inherent in the climate record and the uncertainties in the time histories of the various forcing agents (and particularly aerosols), a causal linkage between the buildup of greenhouse gases in the atmosphere and the observed climate changes during the 20th century cannot be unequivocally established. The fact that the magnitude of the observed warming is large in comparison to natural variability as simulated in climate models is suggestive of such a linkage, but it does not constitute proof of one because the model simulations could be deficient in natural variability on the decadal to century time scale. The warming that has been estimated to have occurred in response to the buildup of greenhouse gases in the atmosphere is somewhat greater than the observed warming. At least some of this excess warming has been offset by the cooling effect of sulfate aerosols, and in any case one should not necessarily expect an exact correspondence because of the presence of natural variability.

Apparently contradicting the evidence of warming are inconsistencies in the observational record, particularly related to the differences between temperature trends measured at the surface and measurements taken from satellite observations of the lower- to mid-troposphere, which show no significant warming trends in the last two decades of the 20th century. Reconciling these differences and improving observational capabilities remains an important challenge with significant potential implications for decisionmaking.

But the issues extend beyond those of “detection and attribution” to projecting how climate and other related environmental conditions could change in the future. Confidence in such projections is tied to knowledge of basic climate processes and natural variability, the ability of climate models to represent accurately these processes, and the ability of models to represent interactions of natural processes and any human-induced changes in the climate system.

Improving the capability to project future climate conditions would be of significant economic and social value. Consider, for example, the benefits of improved forecasts of the onset of the El Niño-Southern Oscillation (ENSO). ENSO is a large-scale climate oscillation in the equatorial Pacific Ocean that changes phase every few years. Its effects reverberate through the global climate system to affect precipitation and temperature in many regions of the world. Armed with a basic understanding of the processes involved, scientists intensified systematic observations and improved their models, and by the late 1990s could successfully forecast some conditions months in advance. While much additional work is required to improve ENSO forecasts, some climatic features can now be accurately predicted, with significant societal benefits. In the United States, decisionmakers are able to better estimate energy requirements, prepare for storms, manage water resources, anticipate where damage recovery efforts will be required, and foresee other potential impacts. In countries in South America, Africa, and other regions of the world, resource planners and managers are applying model results to develop agricultural plans, anticipate potential food surpluses and shortages, and prepare for other impacts. Such as planning has already reduced suffering and saved crops that would have otherwise been lost to drought and other ENSO effects.

Improving the ability to project long-term trends in climate and related conditions is important to understanding the effects of different types and amounts of natural and human forcing, such as that due to different levels of greenhouse gas and aerosol emissions. Therefore, anticipating how possible future forcing could affect the climate requires development of complex computer models that incorporate the many features of the climate system and their interactions. Such models have been under construction for decades, and require ongoing observations and research into basic processes to fuel their continued improvement. Already, large-scale features of climate can be simulated, but many significant uncertainties remain to be addressed. Current models project significantly different increases in the global average surface temperature, from approximately 1 °C during the 21st century to more than 5 °C during the same period. This range of uncertainty incorporates both different estimates of climate sensitivity (the increase in temperature that results from a doubling of atmospheric concentrations of carbon dioxide (CO2)) and a wide range in projections of future greenhouse gas emissions. Reducing uncertainty in climate models will involve improving understanding of the role of clouds in different parts of the atmosphere; improving characterization of the circulation and interaction of energy in the atmosphere and oceans; improving understanding of the Earth's natural carbon cycle; developing more detailed representations of features of the feedbacks from the land surface; incorporating additional types of forcing agents (e.g., “black carbon”); and making progress on other fundamental challenges. Improved projections of climate changes on decadal or longer timescales are also important for many areas of planning and resource management where decisions made today have implications for decades to come. However, at this point, modeled projections of the future regional impacts of global climate change are often contradictory and are not sufficiently reliable tools for planning.

Even if the scientific community were to develop a “perfect” model of the global climate, it would not be possible to predict the level and rate of future changes in climate resulting from human activities. This is because these activities are not predetermined, but rather depend on human choices, which will, in turn, affect future climate conditions. The activities in question-energy-related emissions of greenhouse gases; changing the surface of the land through clearing, conversion, and growth of different land covers; and the release of chemicals (both natural and human-made) that alter the productivity of the land and the oceans—all depend on a more basic set of human driving forces. These include population growth, living standards, characteristics of technology, and institutions (e.g., market conditions). While we cannot predict these conditions, we can use a different set of models to project the climatic and environmental consequences of different combinations of basic human driving forces. These models are useful for performing “If * * *, then * * *” scenario experiments that make it possible to begin to explore the potential implications of different technological and institutional conditions for future emissions, climate, and living standards.

Improving our ability to project potential future variations and changes in climate and environmental conditions, subject to assumptions about natural and human forcing, could enable governments, businesses, and communities to reduce damages and seize opportunities to benefit from changing conditions by adapting infrastructure, activities, and plans. But realizing this potential will require sustained research and improved understanding of the interactions among climate, natural and managed environmental systems, and human activities. Scientific research needs to address a range of issues.

The complexity of the Earth's environmental systems, the unique conditions that they provide for life, and the state of these systems, including potential impacts on society, make climate and global change among the most important issues for our generation, and perhaps for generations to come. Given what is at stake, the Nation and the international community need the best possible science to inform public debate and decisionmaking in government and the private sector.

2. The Research Program

In February 2002, President George W. Bush announced the formation of a new management structure, the Climate Change Science Program (CCSP), to coordinate and provide direction to US research efforts in the areas of climate and global change. These efforts include the US Global Change Research Program (USGCRP), which began as a Presidential initiative in 1989 and was codified by Congress in the Global Change Research Act of 1990 (Pub. L. 101-606), and the Climate Change Research Initiative (CCRI), which was announced by the President in June 2001 to reduce significant uncertainties in climate science, improve global climate observing systems, and develop resources to support policy- and decisionmaking. Departments and agencies of the US Government that participate in the CCSP include the Departments of Agriculture, Commerce (the National Oceanic and Atmospheric Administration and the National Institute of Science and Technology), Defense, Energy, Health and Human Services, Interior (US Geological Survey), State, and Transportation; the Agency for International Development, the Environmental Protection Agency; the National Aeronautics and Space Administration; the National Science Foundation; and the Smithsonian Institution. The Office of Science and Technology Policy, the Council on Environmental Quality, and the Office of Management and Budget provide oversight on behalf of the Executive Office of the President.

The CCRI provides a distinct focus to the overall research program. The focus is defined by a set of uncertainties about the global climate system that have been identified by policymakers and analyzed by the NRC (NRC, 2001a). Areas addressed in the NRC report include climate observations, aerosols, North American carbon sources and sinks, climate feedbacks and modeling, scenarios of human-induced forcing, and development of methodologies for risk management. The CCRI is described more completely in Part I of this draft strategic plan.

The CCRI accelerates key areas of research that have been under development over the past thirteen years in the USGCRP. Over this period, the United States has made a large scientific investment—totaling more than $20 billion in the areas of climate change and global change research. With these resources, research programs supported by the agencies that participate in the USGCRP, in collaboration with several other national and international science programs, have mounted extensive space-based, surface, and in situ (at fixed sites) systems for global observations and monitoring of climate and ecosystems variables; have documented and characterized several important aspects of the sources, sinks, abundances, and lifetimes of greenhouse gases; have begun to address the complex issues surrounding various aerosol species that may significantly influence climate; have advanced our understanding of global water and carbon cycles (but with major remaining uncertainties); and have developed several approaches to computer modeling of global climate. The program has been a comprehensive, interagency collaboration that has facilitated scientific discovery. Program results have revealed and addressed many of the complex interactions of climate and other environmental systems, and have started to lay the foundation for understanding the relationships between natural variability and human activities that may contribute to change. US researchers have developed fundamental insights into how the climate and Earth system functions: Insights that are incorporated into advanced models throughout the world. The USGCRP is described more completely in Part II of this draft strategic plan.

CCSP's management will balance the CCRI's near-term focus on climate change with the USGCRP's breadth, creating a program that both accelerates development of answers to scientific aspects of key climate policy issues and support advances in knowledge of the physical, biological, and chemical processes that influence the Earth system. This breadth is required to continue improving our understanding of the complex interrelationships among a broad set of systems that regulate climate and the global environment, as described in NRC's seminal report, Global Environmental Change: Research Pathways for the Next Decade (NRC, 1999a). The Pathways report lays out a framework of research questions that has significantly influenced the development of this strategic plan. Other reports issued by several boards, committees, and panels of the NRC have advised the USGCRP on specific aspects of climate and global change research and have influenced specific components of its research strategy. Indeed, the program has benefited from extensive interaction with the NRC, which is responsible for evaluating the USCGRP periodically for scientific merit.

By investigating a targeted yet comprehensive set of questions, the CCSP seeks to focus attention on key climate changes issues that are important for public debate and decisionmaking, while maintaining sufficient breadth to facilitate the discovery of the unexpected. Establishing a careful balance between focus and breadth is essential if scientists are to develop knowledge of the interactions between natural variability and potential human impacts on the Earth system. This is an important management issue for the program and is a prerequisite for making as effective and productive use as possible of the significant resources allocated to this purpose. Establishing this balance, and a rational sequencing of research priorities and potentials, will require input from both decisionmaking and the science community.

3. Guiding Principles for CCSP

To fulfill its mission as the publicly sponsored research program addressing climate change issues for the United States, the CCSP must continuously adhere to three guiding principles that underpin the objectivity, integrity, and usefulness of its research and reporting:

(i) The scientific analyses conducted by the CCSP are policy relevant but not policy driven. CCSP scientific analyses (including measurements, models, projections, and interpretations) are directed toward continually improving our understanding of climate, ecosystems, land use, technological changes, and their interactions. In developing projections of possible future conditions, the CCSP addresses questions in the form of “If * * *, then * * *” analyses. Policy and resource management decisions are the responsibility of government officials who must integrate many other considerations with available scientific information.

(ii) CCSP analyses should specifically evaluate and report uncertainty. All of science, and all decisionmaking, involves uncertainty. Uncertainty need not be a basis for inaction; however, scientific uncertainty should be carefully described in CCSP reports as an aid to the public and decisionmakers.

(iii) CCSP analyses, measurements, projections and interpretations should meet two goals: Scientific credibility and lucid public communication. Scientific communications by the CCSP must maintain a high standard of methods, reporting, uncertainty analysis, and peer review. CCSP public reports must be carefully developed to provide objective and useful summaries of findings.

4. The Research Strategy

This draft strategic plan for the CCSP, incorporating both the USGCRP and the CCRI, is built around a carefully constructed set of questions and objectives for each of the major areas of the program. Primary research questions that focus on broad science issues are supported by more detailed questions and objectives that can be addressed in specific research initiatives and projects. For each major question addressed, the strategy includes a very brief description of the state of knowledge, subsidiary questions, descriptions of products and deliverables, information of activities and infrastructure needed to make progress, and the benefits or “payoffs” from research. For each major program area, linkages to important national and international research activities are also described.

This plan should be considered a draft subject to substantial revision through public comment and independent review by the NAS.

Part I of the plan describes the components of the CCRI as discussed above. These are organized into three broad programmatic areas: (1) Research focused on key climate change uncertainties; (2) Climate quality observations, monitoring, and data management; and (3) Resources for decision support.

Part II of the plan describes major research questions about how the components of Earth's environmental system function, how the system may change in response to human and natural forcing, and what the implications of these changes may be for a variety of human activities and natural environments and resources. For each major research question, a state of knowledge, illustrative research questions, research needs, and a list of products and payoffs are described. The specific topics addressed and their corresponding major research questions are:

(1) Atmospheric Composition

Question 1: What are the climate-relevant chemical and radiative properties, and spatial and temporal distributions, of human-caused and naturally occurring aerosols?

Question 2: What is the current quantitative skill for simulating the atmospheric budgets of the growing suite of chemically active greenhouse gases and their implications for the Earth's energy balance?

Question 3: What are the effects of regional pollution on the global atmosphere and the effects of global climate and chemical change on regional air quality and atmospheric chemical inputs to ecosystems?

Question 4: What are the time scale and other characteristics of the recovery of the stratospheric ozone layer in response to declining abundances of ozone-depleting gases and increasing abundances of greenhouse gases?

Question 5: What ate the couplings among climate change, air pollution, and ozone layer depletion, which were once considered as separate issues?

(2) Climate Variability and Change

Question 1: What is the sensitivity of climate change projections to feedbacks in the climate system?

Question 2: To what extent can predictions of near-term climate fluctuations and projections of long-term climate change be improved, and what can be done to extend knowledge of the limits of predictability?

Question 3: What is the likelihood of climate-induced changes that are significantly more abrupt than expected, such as the collapse of the thermohaline circulation or rapid melting of the major ice sheets?

Question 4: Whether and how are the frequencies, intensities, and locations of extreme events, such as major droughts, floods, wildfires, heat waves, and hurricanes, altered by natural climate variations and human-induced climate changes?

Question 5: How can interactions between producers and users of climate variability and change information be optimally structured to ensure essential information needed for formulating adaptive management strategies is identified and provided to decisionmakers and policymakers?

(3) The Global Water Cycle

Question 1: To what extent does the water cycle vary and change with time, and what are the internal mechanisms and external forcing factors, including human activities, responsible for variability and change?

Question 2: How do feedback processes control the interactions between the global water cycle and other parts of the climate system (e.g., carbon cycle, energy), and how are these feedbacks changing over time?

Question 3: What are the key uncertainties in seasonal to interannual predictions and long-term projections of water cycle variables, and what improvements are needed in global and regional models to reduce these uncertainties?

Question 4: How do the water cycle and its variability affect the availability and quality of water supplied for human consumption, economic activity, agriculture, and natural ecosystems; and how do its interactions and variability affect sediment and nutrient transports, and the movement of toxic chemicals and other biogeochemical substances?

Question 5: What are the consequences of global water cycle variability and change, at a range of temporal and spatial scales, for human societies and ecosystems? How can the results of global water cycle research be used to inform policy and water resource management decision processes?

(4) Land Use and Land Cover Change

Question 1: What are the primary drivers of land use and land cover change?

Question 2: What tools or methods are needed to allow for better characterization of historic and current land use and land cover characteristics and dynamics?

Question 3: What advances are required to allow for the projection of land use and land cover patterns and characteristics 10-50 years into the future?

Question 4: How can projections be made of potential land cover and land use change over the next 10-50 years for use in models of impacts on the environment, social and economic systems, and human health?

Question 5: What are the combined effects of climate and land use and land cover change and what are the potential feedbacks?

(5) The Global Carbon Cycle

Question 1: What are the magnitudes and distributions of North American carbon sources and sinks and what are the processes controlling their dynamics?

Question 2: What are the magnitudes and distributions of ocean carbon sources and sinks on seasonal to centennial time scales, and which processes control their dynamics?

Question 3: What are the magnitudes and distributions of global terrestrial, oceanic and atmospheric carbon sources and sinks and are they changing over time?

Question 4: What are the effects of past, present, and future land use change and resource management practices on carbon sources and sinks?

Question 5: What will be the future atmospheric carbon dioxide and methane concentrations, and how will terrestrial and marine carbon sources and sinks change in the future?

Question 6: How will the Earth system, and its different components, respond to various options being considered by society for managing carbon in the environment, and what scientific information is needed for evaluating these options?

(6) Ecosystems

Question 1: What are the most important linkages and feedbacks between ecosystems and global change (especially climate), and what are their quantitative relationships?

Question 2: What are the potential consequences of global change for ecosystems and the delivery of their goods and services?

Question 3: What are the options for sustaining and improving ecosystem goods and services valued by societies, given projected global changes?

(7) Human Contributions and Responses to Environmental Change

Question 1: What are the magnitudes, interrelationships, and significance of the primary human drivers of change in atmospheric composition and the climate system, changes in land use and land cover, and other changes in the global environment?

Question 2: What are the current and potential future impacts of global environmental variability and change on human welfare, what factors influence the capacity of human societies to respond to change, and how can resilience be increased and vulnerability reduced?

Question 3: How can the methods and capabilities for societal decisionmaking under conditions of complexity and uncertainty about global environmental variability and change be enhanced?

Question 4: What are the potential human health effects of global environmental change, and what tools and climate and environmental information are needed to assess and address the cumulative risk to health from these effects?

In addition, the final chapter in Part II is devoted to Grand challenges in modeling, observations, and information systems. Modeling, observations, and data and information dissemination are crosscutting, “enabling” activities and are tightly coupled to the seven research elements. These are needs that are particular to a given research area and must be planned and implemented in close association with the research that they support or draw on. However, they also need to be managed in a focused manner because they provide essential infrastructure that must serve multiple purposes within the CCSP-enabling fundamental research, as well as supporting assessment and decisionmaking—and because they depend on the distributed assets of CCSP agencies, some of which were originally developed to serve other needs.

Part III of the plan describes communication, cooperation, and management issues that cut across all areas of the program. The specific topics addressed are:

(1) Reporting and Outreach

Inventory of Existing Agency Activities

Reporting and Outreach for Decisionmakers

Reporting and Outreach for the Public

Outreach for K-12 Education

(2) International Research and Cooperation

Goals of International Cooperation in Climate Science

The International Framework

Bilateral Cooperation in Climate Change Research and Technology

Multilateral International Cooperation in Research and Observational Programs

Regional Cooperation In Global Change Research

U.S. Plans And Objectives For Future International Cooperation

(3) Program Management and Review

Scientific Guidance

Interagency Planning and Implementation

Program Integration

References

NRC, 1999a. Committee on Global Change Research, National Research Council, Global Environmental Change: Research Pathways for the Next Decade (Washington, DC: National Academy Press).

NRC, 2001a. National Research Council, Committee on the Science of Climate Change, Climate Change Science: An Analysis of Some Key Questions (Washington, DC: National Academy Press).

James R. Mahoney,
Assistant Secretary for Oceans and Atmosphere and Director, U.S. Climate Change Science Program.

[FR Doc. 03-292 Filed 1-6-03; 8:45 am]

BILLING CODE 3510-KB-M